ENVIRONMENTAL PROTECTION AGENCY

40 CFR Part 52

[TN-200602; FRL-8197-2]

Approval and Promulgation of Air Quality Implementation Plans; Tennessee; Update to Materials Incorporated by Reference

AGENCY: Environmental Protection Agency (EPA).

ACTION: Final rule; Notice of administrative change.

SUMMARY: EPA is publishing this action to provide the public with notice of the update to the Tennessee State Implementation Plan (SIP) compilation. In particular, materials submitted by Tennessee that are incorporated by reference (IBR) into the Tennessee SIP are being updated to reflect EPA-approved revisions to Tennessee's SIP that have occurred since the last update. In this action EPA is also notifying the public of the correction of certain typographical errors.

DATES: This action is effective July 24, 2006.

ADDRESSES: SIP materials which are incorporated by reference into 40 CFR part 52 are available for inspection at the following locations: Environmental Protection Agency, Region 4, 61 Forsyth Street, SW., Atlanta, GA 30303; the EPA, Air and Radiation Docket and Information Center, Air Docket (6102), 1301 Constitution Avenue, NW., Room B102, Washington, DC 20460, and the National Archives and Records Administration (NARA). For information on the availability of this material at NARA, call 202-741-6030, or go to: http://www.archives.gov/federal_register/code_of_federal_regulations/ibr_locations.html.

FOR FURTHER INFORMATION CONTACT: Ms. Stacy DiFrank at the above Region 4 address or at (404) 562-9042.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for incorporating by reference, into the Code of Federal Regulations, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to Tennessee on June 30, 1999 (64 FR 35009).

This action represents EPA's publication of the Tennessee SIP Compilation update, appearing in 40 CFR part 52. In addition, notice is provided of the following typographical corrections to Table 1 of § 52.2220, as described below, and modifying the IBR Table format of Table 1.

1. Correcting typographical errors listed in Table 1 of § 52.2220(c), as described below:

A. Change in Federal Register citations to reflect the beginning page of the preamble as opposed to that of the regulatory text.

B. Chapter 1200-3-5-.03 title is revised to read “Method of Evaluating and Recording.”

C. Chapter 1200-3-5-.11 EPA approved date is corrected to read “07/16/02.”

D. Chapter 1200-3-9-.05, “Appeal of Permit Application Denials and Permit Conditions,” is changed to Chapter 1200-3-9-.06, and a new Chapter 1200-3-8-.05 is added and “Reserved.”

EPA has determined that today's action falls under the “good cause” exemption in section 553(b)(3)(B) of the Administrative Procedure Act (APA) which, upon finding “good cause,” authorizes agencies to dispense with public participation, and section 553(d)(3), which allows an agency to make an action effective immediately (thereby avoiding the 30-day delayed effective date otherwise provided for in the APA). Today's administrative action simply codifies provisions which are already in effect as a matter of law in Federal and approved state programs and corrects typographical errors appearing in the Federal Register. Under section 553 of the APA, an agency may find good cause where procedures are “impractical, unnecessary, or contrary to the public interest.” Public comment for this administrative action is “unnecessary” and “contrary to the public interest” since the codification (and typographical corrections) only reflect existing law. Immediate notice of this action in the Federal Register benefits the public by providing the public notice of the updated Tennessee SIP Compilation and notice of typographical corrections to the Tennessee “Identification of Plan” portion of the Federal Register.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the Supplementary Information section above, it is not subject to the regulatory flexibility provisions of the Regulatory Flexibility Act (5 U.S.C. 601 et seq.), or to sections 202 and 205 of the Unfunded Mandates Reform Act (UMRA) of 1995 (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This administrative action also is not subject to Executive Order 13045 (62 FR 19885, April 23, 1997), because it is not economically significant. This administrative action does not involve technical standards, thus the requirements of section 12(d) of the National Technology Transfer and Advancement Act of 1995 (15 U.S.C. 272 note) do not apply. The administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved state programs. 5 U.S.C. 808(2). These announced actions were effective when EPA approved them through previous rulemaking actions. EPA will submit a report containing this action and other required information to the U.S. Senate, the U.S. House of Representatives, and the Comptroller General of the United States prior to publication of this action in the Federal Register. This update to Tennessee's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the Tennessee SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 23, 2006.
A. Stanley Meiburg,
Acting Regional Administrator, Region 4.

40 CFR part 52, is amended as follows:

PART 52—[AMENDED]

1. The authority for citation for part 52 continues to read as follows:

Authority: 42 U.S.C. 7401 et seq.

Subpart RR—Tennessee

2. Section 52.2220 is amended by revising paragraph (b), and revising table 1 in paragraph (c) to read as follows:

§ 52.2220 Identification of plan.

* * * * *

(b) Incorporation by reference. (1) Material listed in paragraph (c) of this section with an EPA approval date prior to January 1, 2006, for Tennessee (Table 1 of the Tennessee State Implementation Plan), January 1, 2003 for Memphis Shelby County (Table 2 of the Tennessee State Implementation Plan), March 1, 2005, for Knox County (Table 3 of the Tennessee State Implementation Plan), April 1, 2005 for Chattanooga (Table 4 of the Tennessee State Implementation Plan), April 1, 2005, for Nashville-Davidson County (Table 5 of the Tennessee State Implementation Plan) and paragraph (d) with an EPA approval date prior to December 1, 1998, was approved for incorporation by reference by the Director of the Federal Register in accordance with 5 U.S.C. 552(a) and 1 CFR part 51. Material is incorporated as it exists on the date of the approval, and notice of any change in the material will be published in the Federal Register. Entries in paragraphs (c) of this section with EPA approval dates after January 1, 2006, for Tennessee (Table 1 of the Tennessee State Implementation Plan), January 1, 2003 for Memphis Shelby County (Table 2 of the Tennessee State Implementation Plan), March 1, 2005, for Knox County (Table 3 of the Tennessee State Implementation Plan), April 1, 2005 for Chattanooga (Table 4 of the Tennessee State Implementation Plan), April 1, 2005, for Nashville-Davidson County (Table 5 of the Tennessee State Implementation Plan) and paragraph (d) with an EPA approval date after December 1, 1998, will be incorporated by reference in the next update to the SIP compilation.

(2) EPA Region 4 certifies that the rules/regulations provided by EPA in the SIP compilation at the addresses in paragraph (b)(3) of this section are an exact duplicate of the officially promulgated State rules/regulations which have been approved as part of the State implementation plan as of the dates referenced in paragraph (b)(1).

(3) Copies of the materials incorporated by reference may be inspected at the Region 4 EPA Office at 61 Forsyth Street, SW., Atlanta, GA 30303; the EPA, Air and Radiation Docket and Information Center, Air Docket, 1301 Constitution Avenue, NW., Room B102, Washington, DC 20460; or at the National Archives and Records Administration (NARA). For information on the availability of this material at NARA, call 202-741-6030, or go to: http://www.archives.gov/federal_register/code_of_federal_regulations/ibr_locations.html.

(c) * * *

Table 1.—EPA Approved Tennessee Regulations
State citation | Title/subject | State effective date | EPA approval date | Explanation
CHAPTER 1200-3-1 GENERAL PROVISIONS
Section 1200-3-1-.01 | General Rules | 02/09/77 | 03/29/85, 50 FR 12540
Section 1200-3-1-.02 | Severability | 10/12/79 | 06/24/82, 47 FR 27267
CHAPTER 1200-3-2 DEFINITIONS
Section 1200-3-2-.01 | General Definitions | 06/26/93 | 09/16/02, 67 FR 46594
Section 1200-3-2-.02 | Abbreviations | 02/09/77 | 03/29/85, 50 FR 12540
CHAPTER 1200-3-3 AIR QUALITY STANDARDS
Section 1200-3-3-.01 | Primary Air Quality Standards | 02/09/77 | 03/29/85, 50 FR 12539
Section 1200-3-3-.02 | Secondary Air Quality Standards | 02/09/77 | 03/29/85, 50 FR 12539
Section 1200-3-3-.03 | Tennessee's Ambient Air Quality Standards | 12/05/84 | 03/29/85, 50 FR 12539
Section 1200-3-3-.04 | Nondegradation | 02/09/77 | 03/29/85, 50 FR 12540
Section 1200-3-3-.05 | Achievement | 08/02/83 | 04/07/93, 58 FR 18011
CHAPTER 1200-3-4 OPEN BURNING
Section 1200-3-4-.01 | Purpose | 02/09/77 | 03/29/85, 50 FR 12540
Section 1200-3-4-.02 | Open Burning Prohibited | 03/21/79 | 06/24/82, 47 FR 27268
Section 1200-3-4-.03 | Exceptions to Prohibition | 02/09/77 | 03/29/85, 50 FR 12540
Section 1200-3-4-.04 | Permits for Open Burning | 06/21/79 | 06/24/82, 47 FR 27268
CHAPTER 1200-3-5 VISIBLE EMISSION REGULATIONS
Section 1200-3-5-.01 | General Standards | 06/07/92 | 08/15/97, 62 FR 43643
Section 1200-3-5-.02 | Exceptions | 06/07/92 | 08/15/97, 62 FR 43643
Section 1200-3-5-.03 | Method of Evaluating and Recording | 06/07/92 | 08/15/97, 62 FR 43643
Section 1200-3-5-.04 | Exemption | 06/07/92 | 08/15/97, 62 FR 43643
Section 1200-3-5-.05 | Standard for Certain Existing Sources | 06/07/92 | 08/15/97, 62 FR 43643
Section 1200-3-5-.06 | Wood-Fired Fuel Burning Equipment | 06/07/92 | 08/15/97, 62 FR 43643
Section 1200-3-5-.07 | Repealed | 06/07/92 | 08/15/97, 62 FR 43643
Section 1200-3-5-.08 | Titanium Dioxide (TiO2) Manufacturing | 06/07/92 | 08/15/97, 62 FR 43643
Section 1200-3-5-.09 | Kraft Mill and Soda Mill Recovery | 04/06/98 | 09/16/02, 67 FR 46594
Section 1200-3-5-.10 | Choice of Visible Emission Standard for Certain Fuel Burning Equipment | 06/07/92 | 08/15/97, 62 FR 43643
Section 1200-3-5-.11 | Repealed | 04/06/98 | 09/16/02, 62 FR 46594
Section 1200-3-5-.12 | Coke Battery Underfire (combustion) Stacks | 06/07/92 | 08/15/97, 62 FR 43643
CHAPTER 1200-3-6 NON-PROCESS EMISSION STANDARDS
Section 1200-3-6-.01 | General Non-Process Emissions | 06/21/79 | 06/24/82, 47 FR 27267
Section 1200-3-6-.02 | Non-Process Particulate Emission Standards | 09/08/80 | 06/24/82, 47 FR 27267
Section 1200-3-6-.03 | General Non-Process Gaseous Emissions | 06/21/79 | 06/24/82, 47 FR 27267
Section 1200-3-6-.04 | (Deleted) | 06/21/79 | 06/24/82, 47 FR 27267
Section 1200-3-6-.05 | Wood-Fired Fuel Burning Equipment | 05/30/87 | 11/23/88, 53 FR 47530
CHAPTER 1200-3-7 PROCESS EMISSION STANDARDS
Section 1200-3-7-.01 | General Process Particulate Emission Standards | 03/02/79 | 06/24/82, 47 FR 27267
Section 1200-3-7-.02 | Choice of Particulate Emission Standards—Existing Process | 04/12/78 | 06/07/79, 44 FR 32681
Section 1200-3-7-.03 | New Processes | 06/21/79 | 06/24/82, 47 FR 27267
Section 1200-3-7-.04 | Limiting Allowable Emissions | 03/21/79 | 06/07/79, 44 FR 32681
Section 1200-3-7-.05 | Specific Process Emission Standards | 06/07/74 | 06/07/79, 44 FR 32681
Section 1200-3-7-.06 | Standards of Performance for New Stationary Sources | 06/07/74 | 06/07/79, 44 FR 32681
Section 1200-3-7-.07 | General Provisions and Applicability for Process Gaseous Emission Standards | 01/22/82 | 06/12/96, 61 FR 29666
Section 1200-3-7-.08 | Specific Process Emission Standards | 09/22/80 | 01/31/96, 61 FR 3318
Section 1200-3-7-.09 | Sulfuric Acid Mist | 02/09/77 | 03/29/85, 50 FR 12540
Section 1200-3-7-.10 | Grain Loading Limit for Certain Existing Sources | 03/21/79 | 06/24/82, 47 FR 27267
Section 1200-3-7-.11 | Carbon Monoxide, Electric Arc Furnaces | 10/25/79 | 06/24/82, 47 FR 27267
Section 1200-3-7-.12 | Carbon Monoxide, Catalytic Cracking Units | 01/22/82 | 06/21/82, 47 FR 26621
CHAPTER 1200-3-8 FUGITIVE DUST
Section 1200-3-8-.01 | Fugitive Dust | 07/11/80 | 06/24/82, 47 FR 27267
Section 1200-3-8-.02 | Special Nonattainment Area Fugitive Dust Requirements | 03/21/79 | 06/24/82, 47 FR 27267
CHAPTER 1200-3-9 CONSTRUCTION AND OPERATING PERMITS
Section 1200-3-9-.01 | Construction Permits | 01/26/99 | 07/19/99, 64 FR 38580
Section 1200-3-9-.02 | Operating Permits | 09/21/94 | 02/13/97, 62 FR 6724
Section 1200-3-9-.03 | General Provisions | 02/09/77 | 03/29/85, 50 FR 12540
Section 1200-3-9-.04 | Exemptions | 08/28/95 | 08/29/02, 67 FR 55320
Section 1200-3-9-.05 | Reserved
Section 1200-3-9-.06 | Appeal of Permit Application Denials and Permit Conditions | 11/16/79 | 06/24/82 47 FR 27269
CHAPTER 1200-3-10 REQUIRED SAMPLING, RECORDING, AND REPORTING
Section 1200-3-10-.01 | Sampling Required to Establish Contaminant Emission Levels | 12/14/81 | 03/19/96, 61 FR 11136
Section 1200-3-10-.02 | Monitoring of Source Emissions, Recording, Reporting of the Same are Required | 02/14/96 | 01/07/00, 65 FR 1070
Section 1200-3-10-.04 | Sampling, Recording, and Reporting Required for Major Stationary Sources | 09/12/94 | 01/19/00, 65 FR 2880
CHAPTER 1200-3-12 METHODS OF SAMPLING AND ANALYSIS
Section 1200-3-12-.01 | General | 02/09/77 | 03/29/85, 50 FR 12540
Section 1200-3-12-.02 | Procedures for Ambient Sampling and Analysis | 01/18/80 | 06/24/82, 47 FR 27270
Section 1200-3-12-.03 | Source Sampling and Analysis | 08/01/84 | 03/29/85, 50 FR 12539
Section 1200-3-12-.04 | Monitoring Required for Determining Compliance of Certain Large Sources | 12/28/96 | 01/07/00, 65 FR 1070
CHAPTER 1200-3-13 VIOLATIONS
Section 1200-3-13-.01 | Violation Statement | 06/07/74 | 06/07/79, 44 FR 32681
CHAPTER 1200-3-14 CONTROL OF SULFUR DIOXIDE EMISSIONS
Section 1200-3-14-.01 | General Provisions | 08/01/84 | 04/07/93, 58 FR 18011
Section 1200-3-14-.02 | Non-Process Emission Standards | 08/01/84 | 04/07/93, 58 FR 18011
Section 1200-3-14-.03 | Process Emission Standards | 03/21/93 | 03/19/96, 61 FR 11136
CHAPTER 1200-3-15 EMERGENCY EPISODE REQUIREMENTS
Section 1200-3-15-.01 | Purpose | 02/09/77 | 03/29/85, 50 FR 12540
Section 1200-3-15-.02 | Episode Criteria | 06/26/93 | 09/15/94, 59 FR 47256
Section 1200-3-15-.03 | Required Emissions Reductions | 05/15/81 | 06/24/82, 47 FR 27267
CHAPTER 1200-3-17 CONFLICT OF INTEREST
Section 1200-3-17-.01 | Purpose and Intent | 09/18/96 | 10/28/02, 67 FR 55322
Section 1200-3-17-.02 | Conflict of Interest on the Part of the Board and Technical Secretary | 09/18/96 | 10/28/02, 67 FR 55322
Section 1200-3-17-.03 | Conflict of Interest in the Permitting of Municipal Solid Waste Incineration Units | 09/18/96 | 10/28/02, 67 FR 55322
CHAPTER 1200-3-18 VOLATILE ORGANIC COMPOUNDS
Section 1200-3-18-.01 | Definitions | 01/12/98 | 06/03/03, 68 FR 33008
Section 1200-3-18-.02 | General Provisions and Applicability | 02/23/96 | 07/18/96, 61 FR 37387
Section 1200-3-18-.03 | Compliance Certification, Recordkeeping, and Reporting Requirements for Coating and Printing Sources | 02/08/96 | 07/18/96, 61 FR 37387
Section 1200-3-18-.04 | Compliance Certification, Recordkeeping, and Reporting Requirements for Non-Coating and Non-Printing Sources | 02/08/96 | 07/18/96, 61 FR 37387
Section 1200-3-18-.05 | (Reserved) | 05/18/93 | 02/27/95, 60 FR 10504
Section 1200-3-18-.06 | Handling, Storage, Use, and Disposal of Volatile Organic Compounds (VOC) | 06/04/96 | 08/27/96, 61 FR 43972 |
Section 1200-3-18-.07 | Source-Specific Compliance Schedules | 05/18/93 | 02/27/95, 60 FR 10504 |
Section 1200-3-18-.08 | (Reserved) | 05/18/93 | 02/27/95, 60 FR 10504 |
Section 1200-3-18-.09 | (Reserved) | 05/18/93 | 02/27/95, 60 FR 10504 |
Section 1200-3-18-.10 | (Reserved) | 05/18/93 | 02/27/95, 60 FR 10504 |
Section 1200-3-18-.11 | Automobile and Light-Duty Truck Coating Operations | 05/18/93 | 02/27/95, 60 FR 10504 |
Section 1200-3-18-.12 | Can Coating | 05/18/93 | 02/27/95, 60 FR 10504 |
Section 1200-3-18-.13 | Coil Coating | 05/18/93 | 02/27/95, 60 FR 10504 |
Section 1200-3-18-.14 | Paper and Related Coating | 05/18/93 | 02/27/95, 60 FR 10504
Section 1200-3-18-.15 | Fabric Coating | 05/18/93 | 02/27/95, 60 FR 10504 |
Section 1200-3-18-.16 | Vinyl Coating | 05/18/93 | 02/27/95, 60 FR 10504 |
Section 1200-3-18-.17 | Coating of Metal Furniture | 05/18/93 | 02/27/95, 60 FR 10504 |
Section 1200-3-18-.18 | Coating of Large Appliances | 05/18/93 | 02/27/95, 60 FR 10504 |
Section 1200-3-18-.19 | Coating of Magnet Wire | 05/18/93 | 02/27/95, 60 FR 10504 |
Section 1200-3-18-.20 | Coating of Miscellaneous Metal Parts | 01/26/99 | 11/03/99, 64 FR 59628
Section 1200-3-18-.21 | Coating of Flat Wood Paneling | 02/08/96 | 07/18/96, 61 FR 37387 |
Section 1200-3-18-.22 | Bulk Gasoline Plants | 12/29/04 | 08/26/05, 70 FR 50199 |
Section 1200-3-18-.23 | Bulk Gasoline Terminals | 05/18/93 | 02/27/95, 60 FR 10504 |
Section 1200-3-18-.24 | Gasoline Dispensing Facility—Stage I and Stage II Vapor Recovery | 12/29/04 | 08/26/05, 70 FR 50199 |
Section 1200-3-18-.25 | Leaks from Gasoline Tank Trucks | 05/18/93 | 02/27/95, 60 FR 10504 |
Section 1200-3-18-.26 | Petroleum Refinery Sources | 05/18/93 | 02/27/95, 60 FR 10504 |
Section 1200-3-18-.27 | Leaks from Petroleum Refinery Equipment | 05/18/93 | 02/27/95, 60 FR 10504 |
Section 1200-3-18-.28 | Petroleum Liquid Storage in External Floating Roof Tanks | 05/18/93 | 02/27/95, 60 FR 10504 |
Section 1200-3-18-.29 | Petroleum Liquid Storage in Fixed Roof Tanks | 05/18/93 | 02/27/95, 60 FR 10504 |
Section 1200-3-18-.30 | Leaks from Natural Gas/Gasoline Processing Equipment | 05/18/93 | 02/27/95, 60 FR 10504 |
Section 1200-3-18-.31 | Solvent Metal Cleaning | 05/18/93 | 02/27/95, 60 FR 10504 |
Section 1200-3-18-.32 | Cutback and Emulsified Asphalt | 05/18/93 | 02/27/95, 60 FR 10504 |
Section 1200-3-18-.33 | Manufacture of Synthesized Pharmaceutical Products | 02/21/95 | 07/18/96, 61 FR 37387 |
Section 1200-3-18-.34 | Pneumatic Rubber Tire Manufacturing | 05/18/93 | 02/27/95, 60 FR 10504
Section 1200-3-18-.35 | Graphic Arts Systems | 05/18/93 | 02/27/95, 60 FR 10504
Section 1200-3-18-.36 | Petroleum Solvent Dry Cleaners | 02/08/96 | 07/18/96, 61 FR 37387
Section 1200-3-18-.37 | (Reserved) | 05/18/93 | 02/27/95, 60 FR 10504
Section 1200-3-18-.38 | Leaks from Synthetic Organic Chemical, Polymer, and Resin Manufacturing Equipment | 02/08/96 | 07/18/96, 61 FR 37387
Section 1200-3-18-.39 | Manufacture of High Density Polyethylene, Polypropylene, and Polystyrene Resins | 05/08/97 | 07/29/97, 62 FR 40458
Section 1200-3-18-.40 | Air Oxidation Processes in the Synthetic Organic Chemical Manufacturing Industry | 05/18/93 | 02/27/95, 60 FR 10504
Section 1200-3-18-.41 | (Reserved) | 05/18/93 | 02/27/95, 60 FR 10504
Section 1200-3-18-.42 | Wood Furniture Finishing and Cleaning Operations | 04/25/96 | 07/18/96, 61 FR 37387
Section 1200-3-18-.43 | Offset Lithographic Printing Operations | 04/22/96 | 07/18/96, 61 FR 37387
Section 1200-3-18-.44 | Surface Coating of Plastic Parts | 06/03/96 | 08/27/96, 61 FR 43972
Section 1200-3-18-.45 | Standards of Performance for Commercial Motor Vehicle and Mobile Equipment Refinishing Operations | 06/03/96 | 08/27/96, 61 FR 43972
Section 1200-3-18-.48 | Volatile Organic Liquid Storage Tanks | 06/03/96 | 08/27/96, 61 FR 43972
Sections 1200-3-18-.49-.77 | (Reserved) | 05/18/93 | 02/27/95, 60 FR 10504
Section 1200-3-18-.78 | Other Facilities That Emit Volatile Organic Compounds (VOC's) of Fifty Tons Per Year | 02/08/96 | 07/18/96, 61 FR 37387
Section 1200-3-18-.79 | Other Facilities That Emit Volatile Organic Compounds (VOC's) of One Hundred Tons Per Year | 02/08/96 | 07/18/96, 61 FR 37387
Section 1200-3-18-.80 | Test Methods and Compliance Procedures: General Provisions | 05/18/93 | 02/27/95, 60 FR 10504
Section 1200-3-18-.81 | Test Methods and Compliance Procedures: Determining the Volatile Organic Compound (VOC) Content of Coatings and Inks | 05/08/97 | 07/29/97, 62 FR 40458
Section 1200-3-18-.82 | Test Methods and Compliance Procedures: Alternative Compliance Methods for Surface Coating | 05/18/93 | 02/27/95, 60 FR 10504
Section 1200-3-18-.83 | Test Methods and Compliance Procedures: Emission Capture and Destruction or Removal Efficiency and Monitoring Requirements | 05/18/93 | 02/27/95, 60 FR 10504
Section 1200-3-18-.84 | Test Methods and Compliance Procedures: Determining the Destruction or Removal Efficiency of a Control Device | 05/18/93 | 02/27/95, 60 FR 10504
Section 1200-3-18-.85 | Test Methods and Compliance Procedures: Leak Detection Methods for Volatile Organic Compounds (VOC's) | 05/18/93 | 02/27/95, 60 FR 10504
Section 1200-3-18-.86 | Performance Specifications for Continuous Emission Monitoring of Total Hydrocarbons | 06/03/96 | 04/14/97, 62 FR 18046
Section 1200-3-18-.87 | Quality Control Procedures for Continuous Emission Monitoring Systems (CEMS) | 05/18/93 | 02/27/95, 60 FR 10504
Section 1200-3-18-.88-.99 | (Reserved) | 05/18/93 | 02/27/95, 60 FR 10504
CHAPTER 1200-3-19 EMISSION STANDARDS AND MONITORING REQUIREMENTS FOR PARTICULATE AND SULFUR DIOXIDE NONATTAINMENT AREAS
Section 1200-3-19-.01 | Purpose | 04/30/96 | 07/30/97, 62 FR 40734
Section 1200-3-19-.02 | General Requirements | 04/30/96 | 07/30/97, 62 FR 40734
Section 1200-3-19-.03 | Particulate and Sulfur Dioxide Nonattainment Areas within Tennessee | 04/30/96 | 07/30/97, 62 FR 40734
Section 1200-3-19-.04 | (Reserved) | 04/30/96 | 07/30/97, 62 FR 40734
Section 1200-3-19-.05 | Operating Permits and Emission Limiting Conditions | 04/30/96 | 07/30/97, 62 FR 40734
Section 1200-3-19-.06 | Logs for Operating Hours | 04/30/96 | 07/30/97, 62 FR 40734
Section 1200-3-19-.07-.10 | (Reserved) | 04/30/96 | 07/30/97, 62 FR 40734
Section 1200-3-19-.11 | Particulate Matter Emission Regulations for the Bristol Nonattainment Area | 04/30/96 | 07/30/97, 62 FR 40734
Section 1200-3-19-.12 | Particulate Matter Emission Regulations for Air Contaminant Sources in or Significantly Impacting the Particulate Nonattainment Areas in Campbell County | 04/30/96 | 07/30/97, 62 FR 40734
Section 1200-3-19-.13 | Particulate Emission Regulations for the Bull Run Nonattainment Area and Odoms Bend Nonattainment Area | 04/30/96 | 07/30/97, 62 FR 40734
Section 1200-3-19-.14 | Sulfur Dioxide Emission Regulations for the New Johnsonville Nonattainment Area | 04/16/97 | 09/13/99, 64 FR 49397
Section 1200-3-19-.15 | Particulate Matter Monitoring Requirements for Steam Electric Generating Units in the Bull Run and Odoms Bend Nonattainment Areas | 04/30/96 | 07/30/97, 62 FR 40734
Section 1200-3-19-.16-.18 | (Reserved) | 04/30/96 | 07/30/97, 62 FR 40734
Section 1200-3-19-.19 | Sulfur Dioxide Regulations for the Copper Basin Nonattainment Area | 11/30/96 | 09/13/99, 64 FR 49398
CHAPTER 1200-3-20 LIMITS ON EMISSIONS DUE TO MALFUNCTIONS, START-UPS, AND SHUTDOWNS
Section 1200-3-20-.01 | Purpose | 02/13/79 | 02/06/80, 45 FR 8004
Section 1200-3-20-.02 | Reasonable Measures Required | 02/13/79 | 02/06/80, 45 FR 8004
Section 1200-3-20-.03 | Notice Required When Malfunction Occurs | 12/09/81 | 06/24/82, 47 FR 27272
Section 1200-3-20-.04 | Logs and Reports | 02/13/79 | 02/06/80, 45 FR 8004
Section 1200-3-20-.05 | Copies of Log Required | 02/13/79 | 02/06/80, 45 FR 8004
Section 1200-3-20-.06 | Scheduled Maintenance | 02/13/79 | 02/06/80, 45 FR 8004
Section 1200-3-20-.07 | Report Required Upon The Issuance of Notice of Violation | 02/13/79 | 02/06/80, 45 FR 8004
Section 1200-3-20-.08 | Special Reports Required | 02/13/79 | 02/06/80, 45 FR 8004
Section 1200-3-20-.09 | Rights Reserved | 02/13/79 | 02/06/80, 45 FR 8004 |
Section 1200-3-20-.10 | Additional Sources Covered | 11/23/79 | 06/24/82, 47 FR 27272
CHAPTER 1200-3-21 GENERAL ALTERNATE EMISSION STANDARD
Section 1200-3-21-.01 | General Alternate Emission Standard | 01/22/82 | 06/24/82, 47 FR 27272 |
Section 1200-3-21-.02 | Applicability | 03/22/93 | 04/18/94, 59 FR 18310
CHAPTER 1200-3-22 LEAD EMISSION STANDARDS
Section 1200-3-22-.01 | Definitions | 03/18/85 | 08/12/85, 50 FR 32412 |
Section 1200-3-22-.02 | General Lead Emission Standards | 12/05/84 | 08/12/85, 50 FR 32412 |
Section 1200-3-22-.03 | Specific Emission Standards for Existing Sources of Lead | 01/26/00 | 10/29/01, 66 FR 44632 |
Section 1200-3-22-.04 | Standards for New and Modified Sources of Lead | 12/05/84 | 08/12/85, 50 FR 32412 |
Section 1200-3-22-.05 | Source Sampling and Analysis | 12/05/84 | 08/12/85, 50 FR 32412 |
Section 1200-3-22-.06 | Lead Ambient Monitoring Requirements | 12/05/84 | 08/12/85, 50 FR 32412
CHAPTER 1200-3-23 VISIBILITY PROTECTION
Section 1200-3-23-.01 | Purpose | 12/19/94 | 07/02/97, 62 FR 35681 |
Section 1200-3-23-.02 | Definitions | 12/19/94 | 07/02/97, 62 FR 35681 |
Section 1200-3-23-.03 | General Visibility Protection Standards | 12/19/94 | 07/02/97, 62 FR 35681 |
Section 1200-3-23-.04 | Specific Emission Standards for Existing Stationary Facilities | 12/19/94 | 07/02/97, 62 FR 35681 |
Section 1200-3-23-.05 | Specific Emission Standards for Existing Sources | 12/19/94 | 07/02/97, 62 FR 35681 |
Section 1200-3-23-.06 | Visibility Standards for New and Modified Sources | 12/19/94 | 07/02/97, 62 FR 35681 |
Section 1200-3-23-.07 | Visibility Monitoring Requirements | 12/19/94 | 07/02/97, 62 FR 35681 |
Section 1200-3-23-.08 | Exemptions from BART Requirements | 12/19/94 | 07/02/97, 62 FR 35681 |
CHAPTER 1200-3-24 GOOD ENGINEERING PRACTICE STACK HEIGHT REGULATIONS
Section 1200-3-24-.01 | General Provisions | 08/18/86 | 10/19/88, 53 FR 40881 |
Section 1200-3-24-.02 | Definitions | 08/18/86 | 10/19/88, 53 FR 40881 |
Section 1200-3-24-.03 | Good Engineering Practice Stack Height Regulations Standards | 08/18/86 | 10/19/88, 53 FR 40881 |
Section 1200-3-24-.04 | Specific Emission Standards | 08/18/86 | 10/19/88, 53 FR 40881 |
CHAPTER 1200-3-27 NITROGEN OXIDES
Section 1200-3-27-.01 | Definitions | 06/14/93 | 07/29/96, 61 FR 39326 |
Section 1200-3-27-.02 | General Provisions and Applicability | 11/23/96 | 10/28/02, 67 FR 55320 |
Section 1200-3-27-.03 | Standards and Requirements | 04/29/96 | 07/29/96, 61 FR 39326 |
Section 1200-3-27-.04 | Standards for Cement Kilns | 07/23/03 | 01/22/04, 69 FR 3015
Section 1200-3-27-.06 | NOX Trading Budget for State Implementation Plans | 07/23/03 | 01/22/04, 69 FR 3015
Section 1200-3-27-.09 | Compliance Plans for NOX Emissions From Stationary Internal Combustion Engines | 11/14/05 | 12/27/05, 70 FR 76401
CHAPTER 1200-3-29 LIGHT-DUTY MOTOR VEHICLE INSPECTION AND MAINTENANCE
Section 1200-3-29-.01 | Purpose | 07/08/94 | 07/28/95, 60 FR 38694
Section 1200-3-29-.02 | Definitions | 12/29/94 | 08/26/05, 70 FR 50199
Section 1200-3-29-.03 | Motor Vehicle Inspection Requirements | 12/29/94 | 08/26/05, 70 FR 50199
Section 1200-3-29-.04 | Exemption From Motor Vehicle Inspection Requirements | 12/29/94 | 08/26/05, 70 FR 50199
Section 1200-3-29-.05 | Motor Vehicle Emission Performance Test Criteria | 12/29/94 | 08/26/05, 70 FR 50199
Section 1200-3-29-.06 | Motor Vehicle Anti-Tampering Test Criteria | 12/29/94 | 08/26/05, 70 FR 50199
Section 1200-3-29-.07 | Motor Vehicle Emissions Performance Test Methods | 12/29/94 | 08/26/05, 70 FR 50199
Section 1200-3-29-.08 | Motor Vehicle Anti-Tampering Test Methods | 12/29/94 | 08/26/05, 70 FR 50199
Section 1200-3-29-.09 | Motor Vehicle Inspection Program | 12/29/94 | 08/26/05, 70 FR 50199
Section 1200-3-29-.10 | Motor Vehicle Inspection Fee | 12/29/94 | 08/26/05, 70 FR 50199
Section 1200-3-29-.12 | Area of Applicability | 12/29/94 | 08/26/05, 70 FR 50199
CHAPTER 1200-3-34 CONFORMITY
Section 1200-3-34-.01 | Conformity of Transportation Plans, Programs, and Projects | 03/21/02 | 05/16/03, 68 FR 25495
CHAPTER 1200-3-36 MOTOR VEHICLE TAMPERING
Section 1200-3-36-.01 | Purpose | 12/29/04 | 08/26/05, 70 FR 50199
Section 1200-3-36-.02 | Definitions | 12/29/04 | 08/26/05, 70 FR 50199
Section 1200-3-36-.03 | Motor Vehicle Tampering Prohibited | 12/29/04 | 08/26/05, 70 FR 50199
Section 1200-3-36-.04 | Recordkeeping Requirements | 12/29/04 | 08/26/05, 70 FR 50199
Section 1200-3-36-.05 | Exemptions | 12/29/04 | 08/26/05, 70 FR 50199

* * * * *

[FR Doc. E6-11615 Filed 7-21-06; 8:45 am]

BILLING CODE 6560-50-P